DEPARTMENT OF TRANSPORTATION

Federal Highway Administration

[Docket No. FHWA-2024-0035]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by July 8, 2024.

ADDRESSES: You may submit comments identified by DOT Docket ID Number 0035 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Frances Ramirez, (202) 961-8605 FHWA, Office of Federal Lands Highway, Office of Federal Lands Programs, 22001 Loudoun County Parkway, Building E1, Suite 150, Ashburn, VA 20147. Office hours are from 8 a.m. to 4 p.m., Monday through Friday, except Federal holidays.

SUPPLEMENTARY INFORMATION:

Title: Nationally Significant Federal Lands and Tribal Projects (NSFLTP) Program.

Background: The NSFLTP Program was authorized under section 1123 of the Fixing America's Surface Transportation (FAST) Act (Pub. L. 114-94) and amended by section 11127 of the BIL. The NSFLTP Program funds are to be awarded on a competitive basis for the construction, reconstruction, and rehabilitation of nationally significant projects within, adjacent to, or accessing Federal and Tribal lands. The NSFLTP Program provides an opportunity to address significant challenges across the Nation for transportation facilities that serve Federal and Tribal lands.

Respondents: Eligible applicants include Federal Land Management Agencies (FLMA); Tribal governments; and States, counties, and units of local government may also apply, but only if sponsored by an FLMA or Tribal government.

Activity: Notice of Funding Opportunity (NOFO).

Application Frequency: The application package is annually following the instructions of the NOFO.

Estimated Average Burden per Response: On average, addressing the criteria requested on the NOFO may take 5 hours to complete.

Estimated Total Annual Burden Hours: Total estimated average annual burden is 110 hours.

Activity: Executing Grant Agreement

Application Frequency: A successful grant recipient requires an executed grant agreement to receive the NSFLTP funding.

Estimated Average Burden per Response: On average, completing and executing a grant agreement may take 3 hours to complete.

Estimated Total Annual Burden Hours: Total estimated burden is 54 hours.

Activity: Post Award Reporting

Application Frequency: if the grant recipient is a State or a Tribal government, the project performance report is submitted every six months (biannually). If the grant recipient is and FLMA, the project performance report is submitted every three months (quarterly).

Estimated Average Burden per Response: On average, the project performance report may take 1 hours to complete.

Estimated Total Annual Burden Hours: Total estimated average annual burden is 50 hours. Per the activities described above, the total estimated burden is 214 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: March 6, 2024.
Jazmyne Lewis,
Information Collection Officer.

[FR Doc. 2024-10140 Filed 5-8-24; 8:45 am]

BILLING CODE 4910-22-P